NUCLEAR REGULATORY COMMISSION

Advisory Committee on Nuclear Waste; Notice of Meeting

The Advisory Committee on Nuclear Waste (ACNW) will hold its 164th meeting on October 19-20, 2005, in the Fairway Room at the Inn at Holiday Valley, 6081 Route 219, Holiday Valley Road, Ellicottville, New York.

The schedule for this meeting is as follows:

Wednesday, October 19, 2005

The ACNW will hold a working group meeting to discuss the application of the Commission's Final Policy Statement on Decommissioning Criteria for the West Valley Demonstration Project (WVDP) a complex decommissioning site. Participants will include the Nuclear Regulatory Commission (NRC) staff, the Department of Energy (DOE), the New York State Energy Research and Development Authority (NYSERDA), as well as other federal and state organizations and local stakeholders.

8:30 a.m.-8:45 a.m.: Introduction, Purpose and Goals (Open)—The Committee's Chairman and Working Group Chairman will discuss the purpose and goals of this working group meeting.

8:45 a.m.-9:15 a.m.: Roles and Responsibilities (Open)—The Committee will hear presentations by and hold discussions with representatives of involved agencies (NRC, DOE, NYSERDA and others) regarding their roles and responsibilities in the WVDP. Additionally, the NRC staff will discuss the WVDP Act and NRC's Final Policy Statement on the Decommissioning Criteria for the WVDP.

9:15 a.m.-10:30 a.m.: NRC's Performance Assessment Methodology (Open)—The Committee will hear presentations by and hold discussions with representatives of the NRC staff on models and methodology used in their performance assessment for the WVDP site.

10:45 a.m.-11:45 a.m.: DOE's Performance Assessment Methodology (Open)—The Committee will hear presentations by and hold discussions with representatives of the DOE on models and methodology used in their performance assessment for the WVDP site.

11:45 a.m.-12:15 p.m: General Roundtable Discussion of Performance Assessment Methodologies (Open)—The Committee will discuss the two performance assessments presented earlier by the NRC and DOE.

12:15 p.m.-12:30 p.m.: Comments From Meeting Attendees on the Morning Session (Open)—The Committee will hear comments from the audience/public.

2 p.m.-3:30 p.m.: Current WVDP Site Status and Ongoing Dismantlement and Decommissioning Activities (Open)—The Committee will hear presentations by and hold discussions with representatives of the DOE on the current WVDP site status.

3:30 p.m.-4 p.m.: General Roundtable Discussion of Site Status (Open)—The Committee and its invited experts will discuss current WVDP site status.

4:15 p.m.-4:45 p.m.: Opportunity for Comments from the Audience/Public (Open)—The Committee will hear comments from the audience/public.

4:45 p.m.-5:15 p.m.: General Discussion of Presentations (Open)—The Committee will have a general discussion on the path forward on the WVDP. The Committee will consider writing a report on the day's session and future ACNW meetings on the WVDP.

Thursday, October 20, 2005

The ACNW will discuss proposed letter reports and other miscellaneous matters.

10 a.m.-11:30 a.m.: Consideration of Proposed ACNW Reports (Open)—The Committee will discuss proposed reports based on reviews from this and previous meetings.

11:30 a.m.-12 Noon: Miscellaneous (Open)—The Committee will discuss matters related to the conduct of ACNW activities and specific issues that were not completed during previous meetings, as time and availability of information permit. Discussions may include future Committee meetings.

Procedures for the conduct of and participation in ACNW meetings were published in the Federal Register on October 18, 2004 (69 FR 61416). In accordance with these procedures, oral or written statements may be presented by members of the public. Electronic recordings will be permitted only during those portions of the meeting that are open to the public. Persons desiring to make oral statements should notify Ms. Sharon A. Steele, (Telephone (301) 415-6805), between 8:30 a.m. and 5:15 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Ms. Steele as to their particular needs.

Further information regarding topics to be discussed, whether the meeting has been canceled or rescheduled, the Chairman's ruling on requests for the opportunity to present oral statements and the time allotted, therefore can be obtained by contacting Ms. Steele.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Dated: October 6, 2005.
Andrew L. Bates,
Advisory Committee Management Officer.

[FR Doc. E5-5596 Filed 10-12-05; 8:45 am]

BILLING CODE 7590-01-P